FEDERAL COMMUNICATIONS COMMISSION

47 CFR Part 73

[DA 07-2882; MB Docket No. 05-67; RM-11116, RM-11342]

Radio Broadcasting Services; Clinton, Fishers, Indianapolis, and Lawrence, IN

AGENCY: Federal Communications Commission.

ACTION: Final rule; dismissal.

SUMMARY: This Report and Order dismisses two Counterproposals as unacceptable for consideration. In addition, this Report and Order upgrades Channel 230A, Station WWFT (FM), Fishers, Indiana, to Channel 230B1, reallots Channel 230B1 from Fishers to Lawrence, Indiana, as Lawrence's first local aural transmission service, and modifies Station WWFT (FM)'s license accordingly. In order to maintain local service at Fishers, the Report and Order reallots Channel 238B, Station WFMS (FM), from Indianapolis to Fishers, Indiana, and modifies Station WFMS (FM)'s license accordingly. To accommodate the reallotment of Channel 230B1 to Lawrence, the Report and Order substitutes Channel 229A for Channel 230A at Station WPFR-FM. Clinton, Indiana, and modifies Station WPFR-FM's license accordingly. The Media Bureau's Consolidated Database System (CDBS) reflects these changes.

ADDRESSES: Federal Communications Commission; 445 Twelfth Street, SW., Washington, DC 20554.

FOR FURTHER INFORMATION CONTACT: R. Barthen Gorman, Media Bureau, (202) 418-2180.

SUPPLEMENTARY INFORMATION: This is a synopsis of the Commission's Report and Order, MB Docket No. 05-67, adopted June 27, 2007, and released June 29, 2007. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will not send a copy of this Report and Order in a report to be sent to Congress and the Government Accountability Office pursuant to the Congressional Review Act, see 5 U.S.C. 801(a)(1)(A), because Section 73.202(b) of the Commission's Rules has not been amended.

Federal Communications Commission.
John A. Karousos,
Assistant Chief, Audio Division, Media Bureau.

[FR Doc. E7-18500 Filed 9-19-07; 8:45 am]

BILLING CODE 6712-01-P